DEPARTMENT OF DEFENSE

Department of the Army; Corps of Engineers

33 CFR Part 277

Water Resources Policies and Authorities: Navigation Policy: Cost Apportionment of Bridge Alterations; Correction

AGENCY: Army Corps of Engineers, DoD.

ACTION: Correcting amendments.

SUMMARY: This document contains corrections to the rule published May 30, 1979 on cost apportionment of bridge alterations. This correcting amendment deletes references to Corps of Engineers and U.S. Coast Guard guidance that no longer exists or has been superseded, provides correct references to current Corps and Coast Guard guidance, and makes it clearer that the Corps of Engineers and the Coast Guard each has its own implementing procedures for cost apportionment of bridge alterations.

DATES: Effective June 30, 2004.

FOR FURTHER INFORMATION CONTACT: Harry Kitch, CECW-CP (202) 761-4127, Kirby Fowler CECW-PC/SAD (202) 761-1765, Headquarters, U.S. Army Corps of Engineers, Washington, DC.

SUPPLEMENTARY INFORMATION: 33 CFR part 277 contains the Corps of Engineers implementing guidance for apportioning costs of bridge alterations made as part of Civil Works projects accomplished under Corps of Engineers authorities. The primary purpose of this correcting amendment is to make it more clear within the text of 33 CFR part 277 that the Corps of Engineers and the U.S. Coast Guard maintain separate cost apportionment implementing procedures, and that each agency uses its own implementing procedures under its respective authorities.

In addition, since 33 CFR part 277 has not been revised since its publication in the Federal Register in 1979, some internal Corps guidance documents referenced in 33 CFR part 277 have changed, as has a referenced U.S. Coast Guard guidance document. These references are updated. A few Corps terms of self-reference are updated.

The change at § 277.6, Basic Policies, paragraph (a), is merely to remove a parenthetical reference to an Engineering Regulation that no longer exists.

The change at § 277.7, Coordination with the U.S. Coast Guard, is to remove the parenthetical instruction to see the referenced Engineering Pamphlet for a copy of a Corps-Coast Guard Memorandum of Agreement. The Pamphlet has been revised and it no longer contains a copy of the agreement. Reference to the Pamphlet is retained as it continues to list the agreement as being in force.

List of Subjects in 33 CFR Part 277

Bridges, Navigation (water).

Accordingly, 33 CFR part 277 is corrected by making the following correcting amendments:

PART 277—WATER RESOURCES POLICIES AND AUTHORITIES: NAVIGATION POLICY: COST APPORTIONMENT OF BRIDGE ALTERATIONS

1. The authority citation for part 277 continues to read as follows:

Authority: Sec. 2, River and Harbor Act of 1920, 41 Stat. 1009, June 5, 1920; 33 U.S.C. 547.

2. Revise § 277.2 to read as follows:

§ 277.2 Applicability.

This regulation applies to all HQUSACE elements and all USACE Commands having Civil Works responsibilities. For bridges altered under U.S. Coast Guard authority pursuant to the Truman-Hobbs Act (33 U.S.C. 511-524), the U.S. Coast Guard regulations codified at 33 CFR part 116 apply.

3. Revise paragraphs (c), (d), and (e) of § 277.3 to read as follows:

§ 277.3 References.

* * * * *

(c) Coast Guard reference: COMDT (G-OPT-3), Exemplification-Principles of Apportionment of Cost for Alteration of Obstructive Bridges under the Provisions of Act of Congress June 21, 1940 (as amended); File No. 16592.

(d) ER 1105-2-100.

(e) EP 1165-2-2 Appendix C.

4. Revise paragraph (a) of § 277.6 to read as follows:

§ 277.6 Basic policies.

(a) The cost apportionment principles of 33 U.S.C. 516 are applicable to the costs of bridge alterations recommended by reporting officers in the interest of navigation during preauthorization planning, including studies conducted under the Continuing Authorities Program.

* * * * *

5. Revise § 277.7 to read as follows:

§ 277.7 Coordination with the U.S. Coast Guard.

In accordance with an agreement signed by the Chief of Engineers on 18 April 1973 (EP 1165-2-2), reporting officers shall consult with the Coast Guard on contemplated and recommended navigation improvements which involve the consideration of bridge alterations. Determination of navigational requirements for horizontal and vertical clearances of bridges across navigable waters is a responsibility of the Coast Guard. The Chief of Engineers shall coordinate preauthorization feasibility reports, which include recommended bridge alterations, with the Commandant, U.S. Coast Guard.

Dated: August 27, 2004.
Don T. Riley,
Brigadier General, U.S. Army, Director of Civil Works.

[FR Doc. 04-20346 Filed 9-7-04; 8:45 am]

BILLING CODE 3710-92-P